DEPARTMENT OF TRANSPORTATION

Maritime Administration

Marine Transportation System National Advisory Council

ACTION: National Advisory Council public meeting.

SUMMARY: The Maritime Administration announces that the Marine Transportation System National Advisory Council (MTSNAC) will hold a meeting to discuss preliminary recommendations that have been developed by the Shipbuilding Subcommittee to support increased efficiency in vessel financing mechanisms and provide adequate ship capacity for marine highway services.

DATES: The meeting will be held on Friday, September 21, 2012, from 11:00 a.m.-1:00 p.m. (EDT).

ADDRESSES: The meeting will be conducted in a webinar format. To access the webinar, please contact Richard Lolich at the Maritime Administration as indicated below.

FOR FURTHER INFORMATION CONTACT: Richard Lolich, (202) 366-0704; Maritime Administration, MAR-540, Room W21-310, 1200 New Jersey Ave. SE., Washington, DC 20590-0001; richard.lolich@dot.gov.

Authority: 5 U.S.C. App 2, Sec. 9(a)(2); 41 CFR 101-6. 1005; DOT Order 1120.3B.

Dated: August 27, 2012.
Christine Gurland,
Acting Secretary, Maritime Administration.

[FR Doc. 2012-21724 Filed 9-6-12; 8:45 am]

BILLING CODE 4910-81-P